DEPARTMENT OF THE INTERIOR

National Park Service

National Register of Historic Places; Notification of Pending Nominations

Nominations for the following properties being considered for listing in the National Register were received by the National Park Service before July 5, 2003. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by August 7, 2003.

Patrick W. Andrus,
Acting Keeper of the National Register of Historic Places.

COLORADO

Chaffee County

Morley Bridge, (Highway Bridges in Colorado MPS), Chaffee Cty Rd. 297 at milepost 2.40, Romley, 03000744

IOWA

Clinton County

Sharon Methodist Epsicopal Church, 1223 125th St., Lost Nation, 03000745

MASSACHUSETTS

Essex County

Breakheart Reservation Parkways—Metropolitan Park System of Greater Boston (Metropolitan Park System of Greater Boston MPS), Forest St., Pine Tops, Elm and Hemlock Rds., Saugus, 03000748

Nahant Beach Boulevard—Metropolitan Park System of Greater Boston (Metropolitan Park System of Greater Boston MPS), Nahant Beach Blvd., Lynn, 03000747

Norfolk County

Blue Hills Reservation Parkways—Metropolitan Park System of Greater Boston (Metropolitan Park System of Greater Boston MPS), Parts of Blue Hill Rd., Chickatawbut Rd., Hillside St., Uniquity Rd., Wampatuck Rd., and Green St., Braintree, 03000746

NEVADA

Lander County

Austin Cemetery, N and S sides of U.S. 50 near jct. with NV 305, Austin, 03000753

Austin City Hall, 90 South St., Austin, 03000754

Austin Masonic and Odd Fellows Hall, 105 Main St., Austin, 03000756

Austin Methodist Church, 135 Court St., Austin, 03000751

Gridley Store, 247 Water St., Austin, 03000752

Nevada Central Turntable, Off Austin Roping Arena Rd., S side of U.S. 50, Austin, 03000759

St. Augustine's Catholic Church, 113 Virginia St., Austin, 03000758

St. George's Episcopal Church, 156 Main St., Austin, 03000755

Stokes Castle, Castle, U.S. 50 W of Austin, Austin, 03000757

Washoe County

Upson, Pearl, House, 937 Jones St., Reno, 03000749

OHIO

Franklin County

Rush Creek Village Historic District, Residential subdivision centered along East South St., E of Morning St., Worthington, 03000760

SOUTH DAKOTA

Beadle County

Anderson Barn, 19411 394th St., Hitchcock, 03000763

Brookings County

Cobel, Ivan, House, 727 Main Ave., Brookings, 03000762

Clay County

Wakonda State Bank, 118 Ohio St., Wakonda, 03000765

Fall River County

St. Martin's Catholic Church and Grotto, (Federal Relief Construction in South Dakota MPS), Lot Six Block 5, Oelrichs, 03000764

Hutchinson County

Kost Farm Barn, 42247 280th St., Olivet, 03000766

Minnehaha County

Slip Up Creek Homestead, 25359 478th Ave., Garretson, 03000761

Pennington County

Madison Ranch, 8800 Nemo Rd., Rapid City, 03000767

TEXAS

Austin County

Lander County Courthouse, 122 Main St., Austin, 03000750

Gonzales County

Houston, William Buckner and Sue, House, 621 E. St. George St., Gonzales, 03000769

Guadalupe County

Seguin Commercial Historic District (Boundary Increase), Roughly bounded by Myrtle St., Camp St., Washington St. and Crockett St., Seguin, 03000768

Nolan County

Newman, I.M. and Margaret, House, 309 Ragland St., Sweetwater, 03000771

Winkler County

Rig Theater, 213-215 E. Hendricks Blvd., Wink, 03000770

UTAH

Sanpete County

Nielson, John R., Cabin, Manti Canyon, Manti, 03000772

[FR Doc. 03-18678 Filed 7-22-03; 8:45 am]

BILLING CODE 4312-51-P